DEPARTMENT OF COMMERCE

Office of Inspector General; Proposed Information Collection; Comment Request; Applicant for Funding Assistance

ACTION: Notice.

SUMMARY: The Department of Commerce (DOC), as part of its continuing effort to reduce paperwork and respondent burden, invites the general public and other Federal agencies to comment on the continuing and proposed information collection, as required by the Paperwork Reduction Act of 1995, Public Law 104-13 (44 U.S.C. 3506(c)(2)(A)).

DATES: Written comments must be submitted on or before November 13, 2006.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information and copies of the information collection instrument and instructions should be directed to the attention of Joyce Baker, Herbert C. Hoover Building, Room 7721, (202) 482-1023, or via e-mail to jbaker@oig.doc.gov.

SUPPLEMENTARY INFORMATION:

I. Abstract

The Department of Commerce, through its bureaus, the Economic Development Administration (EDA), Minority Business Development Agency (MBDA), International Trade Administration (ITA), National Oceanic and Atmospheric Administration (NOAA), National Technical Information Service (NTIS), National Telecommunications and Information Agency (NTIA), and other programs, assists reliable, capable individuals and firms in pursuit of various business development, business enterprise development and other forms of economic development. The form, CD-346, is used to assist programs and grants administration officials in determining the fiscal responsibility and financial integrity of principal officers and employees of organizations, firms, and other entities which are recipients or beneficiaries of grants, cooperative agreements, loans, loan guarantees or other forms of federal financial assistance. The requirement is derived from the duties and responsibilities set forth in Section 4(a)(3) of the Inspector General Act of 1978, as amended, 5 U.S.C.A. App. 3.

The CD-346 is also completed, when required, by grant recipients. Through the name check process, the Office of Inspector General collects background information on key individuals associated with proposed financial assistance (grants, cooperative agreements, loans and loan guarantees) recipient organizations. The name check identifies those principals affiliated with proposed recipient organizations who have been convicted of, or are presently facing, criminal charges or are under investigation for fraud, theft, perjury or other matters which have significant impact on questions of management honesty or financial integrity.

II. Method of Collection

Paper format.

III. Data

OMB Number: 0605-0001.

Form Numbers: CD-346.

Type of Review: Regular submission.

Affected Public: Individuals or households; business or other for-profit organizations; not-for-profit institutions; farms; Federal, State, Local or Tribal government.

Estimated Number of Respondents: 2,500.

Estimated Time Per Response: 15 minutes.

Estimated Total Annual Respondent Burden Hours: 625.

Estimated Total Annual Respondent Cost Burden: $0.

IV. Request for Comments

Comments are invited on: (a) Whether the proposed collection of information is necessary for the proper performance of the functions of the agency, including whether the information will have practical utility; (b) the accuracy of the agency's estimate of the burden (including hours and cost) of the proposed collection of information; (c) ways to enhance the quality, utility, and clarity of the information to be collected; and (d) ways to minimize the burden of the collection of information on respondents, e.g., the use of automated collection techniques or other forms of information technology.

Comments submitted in response to this notice will be summarized and/or included in the request for OMB approval of this information collection; they also will become a matter of public record.

Dated: September 6, 2006.
Gwellnar Banks,
Management Analyst, Office of the Chief Information Officer.

[FR Doc. E6-15037 Filed 9-11-06; 8:45 am]

BILLING CODE 3510-55-P